DEPARTMENT OF TRANSPORTATION

Federal Aviation Administration

[Summary Notice No. PE-2000-32]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before August 23, 2000.

ADDRESSES: Send comments on any petition in triplicate to: Federal Aviation Administration, Office of the Chief Counsel, Attn: Rule Docket (AGC-200), Petition Docket No. _____, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR Part 11).

Issued in Washington, DC, on July 28, 2000.
Donald P. Byrne,
Assistant Chief Counsel for Regulations.

Dispositions of Petitions

Docket No.: 30019.

Petitioner: Woodlake Flying Tigers, EAA Chapter 1292.

Section of the FAR Affected: 14 CFR 135.21, 135.255, 135.353, and appendixes I and J to part 121.

Description of Relief Sought/Disposition: To permit WFT to conduct local sightseeing flights at Woodlake Airport for its one-day event in May 2000, for compensation or hire, without complying with certain anti-drug and alcohol misuse prevention requirements of part 135.

Grant, 05/01/00, Exemption No. 7187

Docket No.: 30020.

Petitioner: Sulphur Springs Sport Aviation Association, EAA Chapter 1094.

Section of the FAR Affected: 14 CFR 135.215, 135.255, 135.353, and appendixes I and J to part 121.

Description of Relief Sought/Disposition: To permit SSSAA to conduct local sightseeing flights in the vicinity of Sulphur Springs, Texas, for its one-day Annual Airport Day in May 2000, and its one-day Annual Fly-In in September 2000, for compensation or hire, without complying with certain anti-drug and alcohol misuse prevention requirements of part 135.

Grant, 05/01/00, Exemption No. 7188

Docket No.: 29609.

Petitioner: The Bush Pilot, Inc.

Section of the FAR Affected: 14 CFR 43.3(a) and (g) and paragraph (c) of appendix A to part 43.

Description of Relief Sought/Disposition: To permit The Bush Pilot to perform the preventive maintenance functions listed in paragraph (c) of appendix A to part 43 on an aircraft operated under 14 CFR part 135 without holding a mechanic certificate.

Denial, 05/02/00, Exemption No. 7192

Docket No.: 29532.

Petitioner: Cub Drivers.

Section of the FAR Affected: 14 CFR 43.3(a) and (g).

Description of Relief Sought/Disposition: To permit pilots employed by Cub Drivers to perform the preventive maintenance functions listed in paragraph (c) of appendix A to part 43 on an aircraft operated under 14 CFR part 135.

Denial, 05/02/00, Exemption No. 7194

Docket No.: 29603.

Petitioner: Mr. James A. Atkins.

Section of the FAR Affected: 14 CFR 43.3(g).

Description of Relief Sought/Disposition: To permit Mr. James A. Atkins and pilots employed by him to perform certain preventive maintenance functions listed in paragraph (c) of appendix A to part 43 on aircraft operated under 14 CFR part 135 without holding a mechanic certificate.

Denial, 05/02/00, Exemption No. 7197

Docket No.: 29989.

Petitioner: Experimental Aircraft Association Chapter 1047 and the Tar River Composite of the Civil Air Patrol.

Section of the FAR Affected: 14 CFR 135.1(a)(5).

Description of Relief Sought/Disposition: To permit EAA Chapter 1047 and the Tar River CAP to conduct local sightseeing flights at the Rocky Mount/Wilson Airport in Rocky Mount, NC, for their annual open house on May 6, 2000, for compensation or hire, without complying with certain anti-drug and alcohol misuse prevention requirements of part 135.

Grant, 05/05/00, Exemption No. 7198

Docket No.: 29722.

Petitioner: Flight Express.

Section of the FAR Affected: 14 CFR 135.243(c)(2).

Description of Relief Sought/Disposition: To permit each of its pilots to act as pilot in command under instrument flight rules with a minimum of 800 hours of total flight time, including 330 hours of cross-country flight time, 70 hours of night flight time, and 50 hours of actual or simulated instrument flight time of which 30 hours were in actual flight in lieu of flight-time requirements.

Denial, 05/05/00, Exemption No. 7199

Docket No.: 29137.

Petitioner: Weary Warriors Squadron.

Section of the FAR Affected: 14 CFR 91.315, 119.21(g), and 119.21(a).

Description of Relief Sought/Disposition: To permit WWS to operate its North American B-25 (B-25) aircraft, which is certificated in the limited category, for the purpose of carrying passengers for compensation or hire.

Grant, 05/10/00, Exemption No. 6786A

Docket No.: 29714.

Petitioner: State of Alaska Department of Transportation and Public Facilities.

Section of the FAR Affected: 14 CFR 107.14.

Description of Relief Sought/Disposition: To permit ADOT&PF to comply with the security of the air operations area requirements of § 107.13 rather than the access controls system requirements of § 107.14 at 15 remote airports operated by the ADOT&PF.

Grant, 05/15/00, Exemption No. 7209

Docket No.: 30041.

Petitioner: Samaritan's Purse.

Section of the FAR Affected: 14 CFR SFAR No. 79.

Description of Relief Sought/Disposition: To permit one flight to Pyongyang, the capital city of the Democratic People's Republic of Korea DPRK, on or about May 15, 2000.

Grant, 05/11/00, Exemption No. 7200

[FR Doc. 00-19527 Filed 8-1-00; 8:45 am]

BILLING CODE 4910-13-M